DEPARTMENT OF AGRICULTURE

Submission for OMB Review; Comment Request

May 4, 2017.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by June 8, 2017. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Pistachios Grown in California, Arizona and New Mexico.

OMB Control Number: 0581-0215.

Summary of Collection: The Pistachio Marketing Order, (7 CFR part 983), covering pistachios grown in California, Arizona and New Mexico is established and regulated under the Agricultural Marketing Agreement Act of 1937, Secs. 1-19, 48 Stat. 31, as amended, (7 U.S.C. 601-674), herein referred to as the Act. The order regulates the handling of pistachios, authorizes grade and size requirements, as well as a requirement for aflatoxin testing on domestic shipments only. The Secretary is authorized to oversee the order operations and issue regulations recommended by representatives from the Pistachio Committee.

Need and Use of the Information: The Agricultural Marketing Service has developed forms as a convenience for handlers and producers who are required to file certain information with the Committee relating to pistachio supplies, shipments, dispositions, and other information needed to effectively implement the requirements of the order and carry out the purposes of the Act. Collecting data less frequently would eliminate the Secretary's ability to administer the order.

Description of Respondents: Business or other for profit; Farms.

Number of Respondents: 1,070.

Frequency of Responses: Reporting: On occasion; Weekly; Monthly; Quarterly; Annually.

Total Burden Hours: 470.

Agricultural Marketing Service

Title: Christmas Tree Promotion, Research, and Information Order.

OMB Control Number: 0581-0268.

Action: Renewal and Extension of a Previously Approved Collection.

Summary of Collection: A Christmas Tree Promotion, Research and Information Order created under the Commodity Promotion, Research, and Information Act of 1996 (Pub. L. 104-127, 110 Stat. 1032, April 4, 1996, 7 U.S.C. 744-7425) requires collection of information to carry out the program. The program includes projects relating to research, information, advertising, sales promotion, market development and production research to assist, improve, or promote the marketing, distribution, competitive position and stimulate sales of Christmas trees.

Need and Use of the Information: The Christmas tree program will be administered by the Christmas Tree Promotion Board appointed by the Secretary of Agriculture and financed by a mandatory assessment on producers and importers of fresh cut Christmas trees. The program will provide for an exemption for producers and importers that cut and sell or import fewer than 500 Christmas trees annually. The forms covered under this collection require the minimum information necessary to effectively carry out the requirements of the program, and their use is essential to carry out the intent of the Order.

Description of Respondents: Producers and Importers.

Number of Respondents: 12,455.

Frequency of Responses: Reporting: Annually; Recordkeeping.

Total Burden Hours: 10,700.

Charlene Parker,
Departmental Information Collection Clearance Officer.

[FR Doc. 2017-09313 Filed 5-8-17; 8:45 am]

BILLING CODE 3410-02-P